DEPARTMENT OF AGRICULTURE

National Institute of Food and Agriculture

Notice of Intent To Extend a Currently Approved Information Collection

AGENCY: National Institute of Food and Agriculture, USDA.

ACTION: Notice and request for comments.

SUMMARY: In accordance with Office of Management and Budget (OMB) regulations (5 CFR 1320) that implement the Paperwork Reduction Act of 1995 (44 U.S.C. chapter 35), this notice announces the National Institute of Food and Agriculture's (NIFA) intention to request approval to extend the currently approved information collection for the Expanded Food and Nutrition Education Program (EFNEP). There are no planned revisions.

DATES: Written comments on this notice must be received by July 6, 2012, to be assured of consideration. Comments received after that date will be considered to the extent practicable.

ADDRESSES: Written comments concerning this notice may be submitted by any of the following methods: Email: gmendez@nifa.usda.gov; Fax: 202-720-0857; Mail: Office of Information Technology (OIT), NIFA, USDA, STOP 2216, 1400 Independence Avenue SW., Washington, DC 20250-2216

FOR FURTHER INFORMATION CONTACT: Gidel Mendez, eGovernment Program Leader; Email: gmendez@nifa.usda.gov.

SUPPLEMENTARY INFORMATION:

Title: Expanded Food and Nutrition Education Program.

OMB Number: 0524-0044.

Expiration Date of Current Approval: 07/31/2012.

Type of Request: Intent to seek approval to extend the currently approved information collection for three years. There are no planned revisions.

Abstract: The USDA's NIFA Expanded Food and Nutrition Education Program (EFNEP) is a unique program that began in 1969 and is designed to reach limited resource audiences, especially youth and families with young children. Extension professionals train and supervise paraprofessionals and volunteers who teach food and nutrition information and skills to limited resources families and youth. EFNEP operates through the 1862 and 1890 Land Grant Universities in all 50 states, the District of Columbia, and in American Samoa, Guam, Micronesia, Northern Marianas, Puerto Rico, and the Virgin Islands.

The objectives of EFNEP are to assist limited resource families and youth in acquiring the knowledge, skills, attitudes, and changed behaviors necessary for nutritionally sound diets, and to contribute to their personal development and the improvement of the total family diet and nutritional well-being.

NIFA sponsors an integrated data collection process that is used at the county, state, and federal level. The current data collection system, the Nutrition Education Evaluation and Reporting System (NEERS), captures EFNEP impacts. Its purpose is to gauge if the federal assistance provided has had an impact on the target audience. It also enables EFNEP staff to make programmatic improvements in delivering nutrition education. Further, the data collected provides information for program management decisions and diagnostic assessments of participant needs. Specifications for this system were developed by a committee of representatives from across the United States and are in compliance with Federal standards for maintaining, collecting, and presenting data on race and ethnicity and protecting personally identifiable information.

NEERS stores information on: (1) Adult program participants, their family structure, and dietary practices; (2) youth group participants; and (3) staff. NEERS consists of separate software sub-systems for the County and the State levels (State also refers to U.S. Territories). Data is exported electronically to the State-level system. University staff generates State-level reports for State-level stakeholders and to guide program management decisions. They also export State-level data electronically to the Federal office for State and National assessments of the program's impact. The State compiled data is aggregated using statistical software and then is used to create National reports which are made available to the public.

There are no revisions to the currently approved collection.

The evaluation processes of EFNEP remain consistent with the requirements of Congressional legislation and OMB. The Government Performance and Results Act (GPRA) of 1993 (Pub. L. 103-62), the Federal Activities Inventory Reform Act (FAIR) (Pub. L. 105-207), and the Agricultural, Research, Extension and Education Reform Act (AREERA) of 1998 (Pub. L. 105-185), together with OMB requirements, support the reporting requirements requested in this information collection. One of the five Presidential Management Agenda initiatives, Budget and Performance Integration, builds on GPRA and earlier efforts to identify program goals and performance measures, and link them to the budget process. The FAIR act requires the development and implementation of a system to monitor and evaluate agricultural research and extension activities in order to measure the impact and effectiveness of research, extension, and education programs. AREERA requires a performance evaluation to be conducted to determine whether federally funded agricultural research, extension, and education programs result in public goods that have national or multistate significance.

Estimate of Burden: The number of respondents has increased from 74 to 75 institutions (e.g., state responses), thus constituting a total annual estimated burden of 93,225 hours for this data collection process—for participant education and data entry, aggregation, and reporting. Burden estimates are reflective of the previous version of the data collection system. The burden for respondents was estimated through feedback from a survey sent to nine institute-level EFNEP Coordinators. Six surveys were returned. Burden takes into account only the information collected in aggregate from the institutions and the record keeping activities that take place in order to provide the aggregated data; it does not include burden related to data entry at the local level. Local data is used by the county and institute levels to provide feedback to participants and to guide county and institute level program management, impact and accountability decisions and reporting.

Comments: Comments are invited on: (a) Whether the proposed collection of information is necessary for the proper performance of the functions of the Agency, including whether the information will have practical utility; (b) the accuracy of the Agency's estimate of the burden of the proposed collection of information; (c) ways to enhance the quality, utility, and clarity of the information to be collected; and (d) ways to minimize the burden of the collection of information on those who are to respond, including through the use of appropriate automated, electronic, mechanical, or other technological collection techniques or other forms of information technology.

Obtaining a Copy of the Information Collection: A copy of the information collection and related instructions may be obtained free of charge by contacting Gidel Mendez as directed above.

Done in Washington, DC, April 11, 2012.
Catherine E. Woteki,
Under Secretary, Research, Education, and Economics.

[FR Doc. 2012-10934 Filed 5-4-12; 8:45 am]

BILLING CODE 3410-22-P